DEPARTMENT OF THE INTERIOR

Bureau of Land Management

[LLWY921000.L14300000.ET0000; WYW 111611]

Public Land Order No. 7811; Extension of Public Land Order No. 6960; WY.

AGENCY: Bureau of Land Management, Interior.

ACTION: Public Land Order.

SUMMARY: This order extends the duration of the withdrawal created by Public Land Order No. 6960, as corrected by Public Land Order No. 6980, for an additional 20-year period. The extension is necessary to continue protection of the natural elk feeding ground, winter range, and capital investments in the area.

DATES: Effective Date: March 30, 2013.

FOR FURTHER INFORMATION CONTACT: Janelle Wrigley, Bureau of Land Management, Wyoming State Office, 5353 N. Yellowstone Road, P.O. Box 1828, Cheyenne, WY 82003, 307-775-6257. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose for which the withdrawal was first made requires this extension to continue protection of the natural elk feeding ground, winter range, and capital investments in the area. The withdrawal extended by this order will expire on March 29, 2033, unless as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6960 (58 FR 16628 (1993)), as corrected by PLO No. 6980 (58 FR 33025 (1993)), which withdrew 10,535.30 acres of public mineral estate from location or entry under the United States mining laws (30 U.S.C. Ch. 2), is hereby extended for an additional 20-year period, until March 29, 2033.

Dated: March 27, 2013.
Rhea S. Suh,
Assistant Secretary—Policy, Management and Budget.

[FR Doc. 2013-08778 Filed 4-12-13; 8:45 am]

BILLING CODE 4310-22-P